DEPARTMENT OF HEALTH AND HUMAN SERVICES

Centers for Disease Control and Prevention

[30 Day-07-0650]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 371-5960 or send an e-mail to omb@cdc.gov. Send written comments to CDC Desk Officer, Office of Management and Budget, Washington, DC or by fax to (202) 395-6974. Written comments should be received within 30 days of this notice.

Proposed Project

Prevention Research Center Information System—Extension—National Center for Chronic Disease Prevention and Health Promotion (NCCDPHP), Centers for Disease Control and Prevention (CDC).

Background and Brief Description

In spring 2003, CDC published RFA #04003 (FY 2003-2009) for the Prevention Research Centers Program. The RFA introduced a set of performance indicators developed collaboratively with the PRCs and other stakeholders and are consistent with federal requirements that all agencies, in response to the Government Performance and Results Act of 1993, prepare performance plans and collect program-specific performance measures. Currently, CDC provides funding to 33 PRCs selected through competitive peer review process and managed as CDC cooperative agreements. Awards are made for five (5) years and may be renewed through a competitive RFA process. PRCs are housed in a school of public health, medicine, or osteopathy and conduct health promotion and disease prevention research using a community-based participatory approach.

The Centers for Disease Control and Prevention (CDC) is seeking a 3 year Office of Management and Budget (OMB) approval for an extension of a reporting system for the Prevention Research Centers Program Information System. In accordance with the original OMB approval (0920-0650), the modification approved September 2005 (to add work plans and progress reports and to increase burden from 28 PRCs to 33 PRCs), and the modification approved November 2006 (to delete, modify, and add questions related to the performance indicators with no change in burden), this requested 3 year extension will continue the data collection as approved. The Information System (IS) is a web-based, password protected technical reporting system that allows the accurate, uniform, and complete collection of PRC information using the Internet. The IS allows CDC to monitor and report on PRC activities efficiently and effectively. Data reported to CDC through the PRC IS are used to identify training and technical assistance needs, monitor compliance with cooperative agreement requirements, evaluate the progress made in achieving center-specific goals and objectives, and obtain information needed to describe the impact and effectiveness of the overall program as needed to respond to Congressional and other inquiries regarding the PRC Program. The annual report and record keeping burden is the same as the modification approved September 2005.

There are no costs to respondents except their time to participate in the survey. The total estimated annualized burden hours are 279.

Estimated Annualized Burden Hours
Respondents | Number of respondents | Number of responses per respondent | Average burden per response (in hrs.)
Clerical | 33 | 2 | 2.73
Directors | 33 | 2 | 1.5

Dated: May 7, 2007.
Maryam Daneshvar,
Acting Reports Clearance Officer, Centers for Disease Control and Prevention.

[FR Doc. E7-9269 Filed 5-14-07; 8:45 am]

BILLING CODE 4163-18-P